DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before August 9, 2021.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on July 1, 2021.
Donald P. Burger,
Chief, General Approvals and Permits Branch.

Application No. | Applicant | Regulation(s) affected | Nature of the special permits thereof
Special Permits Data—Granted
16427-M | Washington State Department of Transportation | 172.101(k) | To modify the special permit to add an additional 1.4S hazardous material to the permit.
21090-N | Shijiazhuang Enric Gas Equipment Co., Ltd. | 180.205 | To authorize the use of UE testing for DOT 3AA, 3AAX, 3T and UN ISO 11120 cylinders in place of the internal visual inspection and the hydrostatic test method required in § 180.205.
21140-N | Philips Medical Systems MR, Inc | 172.101(j) | To authorize the transportation of MRI machines containing compressed gas aboard aircraft.
21152-N | Halendt Solutions, LLC | 180.205 | To authorize transportation in commerce certain gasses in cylinders produced in accordance with specification 3A, 3AX 3AA, 3AAX, 3T and UN-ISO cylinders made in accordance with ISO 11120, having been requalified by acoustic emission (AE) and ultrasonic examination (UE).
21161-N | Structure Probe, Inc. | 172.101(j) | To authorize the transportation in commerce of asbestos via passenger and cargo-only aircraft.
21167-N | KULR Technology Corporation | 173.185(a)(1) | To authorize the manufacture, mark, sale, and use of alternative packaging for shipments of prototype and low production lithium batteries.
21169-N | Americase, LLC | 172.200, 172.700(a) | To authorize the manufacture, mark, sale, and use of thermal packaging for the purpose of shipping lithium batteries for recycling. Shipments are provided limited relief from the shipping papers and training required in 49 CFR Subparts C and H of Part 172 of the HMR.
21172-N | North Carolina Department of Agriculture & Consumer Services | 172.300, 173.196, 173.199, 173.201, 173.202, 173.203, 173.211, 173.212, 173.213 | To authorize one-time transportation by highway of certain biological and infectious substances, dilute pesticide solutions and small quantities of laboratory reference standard materials from two adjacent facilities to newly constructed facility.
21185-M | Hach Company | 172.102(b)(4), 173.36(a) | To modify the permit to authorize additional Class 8 hazardous material.
21187-N | Enerdel, Inc. | 172.101(j) | To authorize the transportation in commerce of lithium ion batteries exceeding 35 kg by cargo-only aircraft.
21189-N | Veolia Es Technical Solutions, LLC | 173.21(b), 173.51, 173.54(a), 173.56(b), 173.64, 173.65 | To authorize the one-time, one-way transportation in commerce of unapproved fireworks by highway.
21195-N | Panasonic Energy Corporation of America | 173.185(c) | To authorize the transportation in commerce of lithium metal batteries in alternative packaging by motor vehicle.
21199-N | Solvay Fluorides, LLC. | 173.227(c) | To authorize the transportation in commerce of a Division 6.1 hazardous material that has been packaged and packed in accordance with the International Maritime Dangerous Goods (IMDG) Code regulations but not the Hazardous Materials Regulations (HMR).
21210-N | Aero Micronesia Inc | 172.101(j), 173.27(b)(2), 173.27(b)(3), 175.30 | To authorize the transportation in commerce of Class 1 materials that are forbidden aboard cargo-only aircraft by cargo-only aircraft.
21217-N | Transport Logistics International, Inc. | 173.420(a)(2), 173.420(a)(3)(i) | To authorize the transportation in commerce of UF6 in repaired cylinders that no longer meet the specification required by the Hazardous Materials Regulations.
21239-N | Lockheed Martin Corporation | 173.185(a)(1) | To authorize the transportation in commerce of lithium ion batteries contained in equipment by cargo-only aircraft.
21243-N | National Air Cargo Group, Inc. | 172.101(j), 172.204(c)(3), 173.27(b)(2), 173.27(b)(3), 175.30(a)(1) | To authorize the transportation of explosives by cargo aircraft.
Special Permits Data—Denied
11818-M | Thermavant Technologies, LLC | 172.101(j), 173.301(f), 173.302a(a)(1), 173.304a(a)(2) | To modify the special permit to authorize mass spectrometer leak inspection as a means of verifying the integrity of cylinder welds.
21155-N | Aithre, Inc. | 172.301(c), 173.302a(a)(1), 180.205 | To authorize the manufacture, mark, sale, and use non-DOT specification fully wrapped carbon-fiber reinforced aluminum lined cylinders for the transportation in commerce of UN1072 compressed oxygen.
21159-N | Aithre, Inc. | 172.301(c), 173.302a(a)(1), 180.205 | To authorize the transportation in commerce of non-DOT specification cylinders containing oxygen.
21215-N | Lord Corporation | 172.203(a), 173.58(a) | To authorize the transportation in commerce of a certain explosive (quinone dioxime) as a flammable solid.
21219-N | FIBA Technologies, Inc. | 180.212(a) | To authorize the transportation in commerce of certain specification DOT 3A, DOT 3AA, DOT 3AX, DOT 3AAX, and DOT 3T cylinders and UN ISO 11120 tubes that have been repaired.
Special Permits Data—Withdrawn
21248-N | Romeo Systems, Inc. | 173.156 | To authorize the transportation of unapproved explosives (pyro fuse) by motor vehicle for field testing.

[FR Doc. 2021-14529 Filed 7-7-21; 8:45 am]

BILLING CODE 4909-60-P